DEPARTMENT OF TRANSPORTATION

Federal Railroad Administration

[Docket No. FRA-2011-0001-N-9]

Proposed Agency Information Collection Activities; Comment Request

AGENCY: Federal Railroad Administration, (FRA), Department of Transportation (DOT).

ACTION: Notice and request for comments.

SUMMARY: In compliance with the Paperwork Reduction Act of 1995 (44 U.S.C. 3501 et seq.), this notice announces that the Information Collection Requirement (ICR) abstracted below is being forwarded to the Office of Management and Budget (OMB) for review and comment. The ICR describes the nature of the information collection and its expected burden. The Federal Register notice with a 60-day comment period soliciting comments on the following collection of information was published on April 20, 2011 (76 FR 22165).

DATES: Comments must be submitted on or before August 1, 2011.

FOR FURTHER INFORMATION CONTACT: Mr. Robert Brogan, Office of Safety, Planning and Evaluation Division, RRS-21, Federal Railroad Administration, 1200 New Jersey Ave., SE., 3rd Floor, Mail Stop 25, Washington, DC 20590 (telephone: (202) 493-6292), or Ms. Kimberly Toone, Office of Information Technology, RAD-20, Federal Railroad Administration, 1200 New Jersey Ave., SE, 3rd Floor, Mail Stop 35, Washington, DC 20590 (telephone: (202) 493-6132). (These telephone numbers are not toll-free.)

SUPPLEMENTARY INFORMATION: The Paperwork Reduction Act of 1995 (PRA), Public Law 104-13, Section 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On April 20, 2011, FRA published a 60-day notice in the Federal Register soliciting comment on this ICR for which the agency was seeking OMB approval. 76 FR 22165. FRA received no comments in response to this notice.

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the nature of the information collection requirement (ICR) and the expected burden for the ICR being submitted for clearance by OMB as required by the PRA.

Title: Implementation for Capital Grants for Rail Line Relocation and Improvement Projects.

OMB Control Number: 2130-0578.

Type of Request: Extension of a currently approved collection.

Affected Public: Businesses.

Abstract: Section 9002 of the Safe, Accountable, Flexible, Efficient Transportation Equity Act: A Legacy for Users (SAFETEA-LU) (Pub. L. 109-59, August 10, 2005) amends chapter 201 of Title 49 of the United States Code by adding section 20154. Section 20154 authorizes—but does not appropriate—$350,000,000 per year for each of the fiscal years (FY) 2006 through 2009 for the purpose of funding a grant program to provide financial assistance for local rail line relocation and improvement projects. Section 20154 directs the Secretary of Transportation (Secretary) to issue regulations implementing this grant program, and the Secretary has delegated this responsibility to FRA. On July 11, 2008, FRA published the final rule intended to carry out that statutory mandate.

Congress did not appropriate any funding for the Program for FY 2006 or FY 2007. In FY 2008, Congress appropriated $20,145,000 for the Program, reduced by rescission to $20,040,200, $14,905,000 of which was available for discretionary (competitive) grants. After evaluating and scoring 37 applications, FRA awarded $14,315,300 to seven different projects, leaving $589,700. In FY 2009, Congress appropriated $25,000,000 and directed that $17,100,000 be awarded to 23 specific projects, with $7,900,000 left over discretionary grants. Subsequently, in FY 2010, Congress appropriated $34,532,000 for the Program, and directed that $24,519,200 go to 27 specifically enumerated projects. FRA combined the remaining $10,012,800 with $589,700 that was not awarded from the FY 2008 competition, $2,000,000 that was awarded to one of the FY 2008 projects but which the project sponsors ultimately turned down, and the $7,900,000 in FY 2009 discretionary funding for a total of $20,502,500. These funds were the subject of a Notice of Funding Availability FRA published in the Federal Register on September 10, 2010. The application period closed on October 29, 2010, and FRA is currently evaluating applications submitted. The information collected will be used by FRA to determine whether or not it is appropriate to provide financial assistance to State and local governments looking to undertake either rail relocation or rail improvement projects.

Form Number(s): N/A

Annual Estimated Burden Hours: 26,083 hours

Addressee: Send comments regarding this information collection to the Office of Information and Regulatory Affairs, Office of Management and Budget, 725 Seventeenth Street, NW., Washington, DC, 20503, Attention: FRA Desk Officer. Comments may also be sent via e-mail to OMB at the following address: oira_submissions@omb.eop.gov.

Comments are invited on the following: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

A comment to OMB is best assured of having its full effect if OMB receives it within 30 days of publication of this notice in the Federal Register.

Authority: 44 U.S.C. 3501-3520.

Issued in Washington, DC on June 24, 2011.
Arnel Rivera,
Acting Director, Office of Financial Management, Federal Railroad Administration.

[FR Doc. 2011-16475 Filed 6-29-11; 8:45 am]

BILLING CODE 4910-06-P